DEPARTMENT OF ENERGY

Federal Energy Regulatory Commission

[Docket No. ER91-569-020, et al.]

Entergy Services, Inc., et al.; Electric Rate and Corporate Regulation Filings

January 17, 2002.

Take notice that the following filings have been made with the Commission. Any comments should be submitted in accordance with Standard Paragraph E at the end of this notice.

1. Entergy Services, Inc.

[Docket No. ER91-569-020]

Take notice that on January 10, 2002, Entergy Services, Inc., on behalf of the five Entergy Operating Companies: Entergy Arkansas, Inc., Entergy Gulf States, Inc., Entergy Louisiana, Inc., Entergy Mississippi, Inc., and Entergy New Orleans, Inc. (together Entergy), submits this status report in response to the Commission's November 20, 2001 Order in the above-captioned docket. A copy of this filing has been served upon the state regulators of the Entergy operating companies.

Comment Date: January 31, 2002.

2. Southern Company Energy Marketing L.P.

[Docket No. ER97-4166-010]

Take notice that on January 10, 2002, Southern Company Services, Inc., acting as agent for Alabama Power Company, Georgia Power Company, Gulf Power Company, Mississippi Power Company, and Savannah Electric and Power Company, submitted a Status Report in response to the Commission's directions in the above-referenced dockets.

Comment Date: January 31, 2002.

3. Consumers Energy Company

[Docket No. ER01-1587-004]

Take notice that on January 11, 2002, Consumers Energy Company (Consumers) tendered for filing a corrected page 5 of Exhibit A of the unexecuted agreement filed December 20, 2001 in this docket. The page corrects a typo in the originally filed version. The agreement is to have an effective date of March 21, 2001. Copies of the filing were served upon those on the official service list in this proceeding.

Comment Date: February 1, 2002.

4. Allegheny Energy Service Corporation, on behalf of Monongahela Power Company, The Potomac Edison Company, and West Penn, Power Company (Allegheny Power)

[Docket No. ER02-454-003]

Take notice that on January 14, 2002, Allegheny Energy Service Corporation on behalf of Monongahela Power Company, The Potomac Edison Company and West Penn Power Company (Allegheny Power), filed Service Agreement No. 371 and Supplement No. 1 to Service Agreement No. 371, which redesignated and corrected First Revised Service Agreement Nos. 364 and 365 under Allegheny Power's Open Access Transmission Service Tariff which has been accepted for filing by the Federal Energy Regulatory Commission in Docket No. ER96-58-000. The proposed effective date for the Service Agreement and Supplement is January 1, 2002.

Comment Date: February 4, 2002.

5. Wisconsin Power & Light Company

[Docket No. ER02-469-000]

Take notice that on January 11, 2002, Wisconsin Power & Light Company (WPL) filed a Notice of Withdrawal with respect to its rate filing it made in the captioned docket on December 4, 2001. WPL requests that its Notice of Withdrawal be accepted effective as of January 26, 2002.

Comment Date: February 1, 2002.

6. Progress Energy on behalf of Florida Power Corporation

[Docket No. ER02-756-000]

Take notice that on January 11, 2002, Florida Power Corporation (FPC) tendered for filing a Service Agreement for Short-Term Network Contract Demand Transmission Service with Tampa Electric Company. Service to this Eligible Customer will be in accordance with the terms and conditions of the Open Access Transmission Tariff filed on behalf of FPC.

FPC is requesting an effective date of January 1, 2002 for this Service Agreement.

A copy of the filing was served upon the Florida Public Service Commission and the North Carolina Utilities Commission.

Comment Date: February 1, 2002.

7. Nevada Power Company

[Docket No. ER02-757-000]

Take notice that on January 11, 2002, Nevada Power Company (Nevada Power) tendered for filing a compliance filing in the above-captioned docket pursuant to the Commission's July 31, 1997 omnibus compliance order regarding the filing of transmission service agreements.

Comment Date: February 1, 2002.

8. Orange and Rockland Utilities, Inc., New York Independent System Operator, Inc.

[Docket No. ER02-758-000]

Take notice that on January 11, 2002 Orange and Rockland Utilities, Inc. (O&R) submitted for approval to the Commission modifications to certain O&R specific information contained in Table 1 of Attachment H of the New York Independent System Operator's (NYISO) Open Access Transmission Tariff. These modifications are required as a result of the Commission's Order issued December 21, 2001 in Docket Nos. EC02-7-000 and ER02-109-000 authorizing the establishment of a new Rockland Electric Company zone in the PJM Interconnection, L.L.C. On that same date, the NYISO also filed parallel changes to Table 1 of Attachment H. O&R and the NYISO request an effective date of February 1, 2002 and request waiver of the Commission's notice requirements.

Copies of this filing have been served on the New York, New Jersey and Pennsylvania regulatory commissions and upon all parties that have executed service agreements under the NYISO's Open Access Transmission Tariff and Market Administration and Control Area Services Tariff.

Comment Date: February 1, 2002.

9. Idaho Power Company

[Docket No. ER02-759-000]

Take notice that on January 11, 2002, Idaho Power Company filed a Service Agreement for Firm Point-to-Point Transmission Service between Idaho Power Company and IDACORP Energy Company, under its open access transmission tariff in the above-captioned proceeding.

Comment Date: February 1, 2002.

10. Idaho Power Company

[Docket No. ER02-760-000]

Take notice that on January 11, 2002, Idaho Power Company filed a Service Agreement for Non-Firm Point-to-Point Transmission Service between Idaho Power Company and IDACORP Energy Company, under its open access transmission tariff in the above-captioned proceeding.

Comment Date: February 1, 2002.

11. Allegheny Energy Service Corporation on behalf of Allegheny Energy Supply Company, LLC

[Docket No. ER02-761-000]

Take notice that on January 11, 2002, Allegheny Energy Service Corporation on behalf of Allegheny Energy Supply Company, LLC (Allegheny Energy Supply) filed Service Agreement No. 154 to add one (1) new Customer to the Market Rate Tariff under which Allegheny Energy Supply offers generation services. Allegheny Energy Supply proposes to make service available as of December 12, 2001 to EnergyUSA-TPC Corp.

Copies of the filing have been provided to all parties of record.

Comment Date: February 1, 2002.

12. Alliant Energy Corporate Services Inc.

[Docket No. ER02-762-000]

Take notice that on January 11, 2002, Alliant Energy Corporate Services Inc. (ALTM) tendered for filing with the Federal Energy Regulatory Commission (Commission), a signed Service Agreement under ALTM's Market Based Wholesale Power Sales Tariff (MR-1) between itself and Utilities Plus, (Customer).

ALTM respectfully requests a waiver of the Commission's notice requirements, and an effective date of December 13, 2001.

Comment Date: February 1, 2002.

13. Indigo Generation LLC, Larkspur Energy LLC and Wildflower Energy LP

[Docket No. ER02-763-000]

Take notice that on January 11, 2002, Indigo Generation LLC, Larkspur Energy LLC and Wildflower Energy LP (collectively the Wildflower Entities) rendered for filing two agreements pursuant to which the Wildflower Entities will sell capacity, energy and ancillary services at market-based rates according to their FERC Electric Tariff, Original Volume No. 1 to their affiliates Coral Energy Management, LLC, under one agreement, and to Coral Power, L.L.C. under the other agreement.

Comment Date: February 1, 2002.

14. Virginia Electric and Power Company

[Docket No. ER02-764-000]

Take notice that on January 14, 2002, Virginia Electric and Power Company (the Company), respectfully tendered for filing Service Agreement by Virginia Electric and Power Company to MIECO, Inc., designated as Service Agreement No. 8, under the Company's short-form market-based rate tariff, FERC Electric Tariff, Original Volume No. 6., effective on June 15, 2001.

The Company requests an effective date of December 27, 2001, as requested by the customer. Copies of the filing were served upon MIECO, Inc., the Virginia State Corporation Commission, and the North Carolina Utilities Commission.

Comment Date: February 4, 2002.

15. UtiliCorp United Inc.

[Docket No. ER02-765-000]

Take notice that on January 14, 2002, UtiliCorp United Inc. (UtiliCorp) tendered for filing Service Agreement No. 109 under UtiliCorp's FERC Electric Tariff, Third Revised Volume No. 24, a network transmission service agreement between UtiliCorp's Missouri Public Service division and the City of El Dorado Springs, Missouri. UtiliCorp requests an effective date for the service agreement of December 16, 2001.

Comment Date: February 4, 2002.

16. Florida Power & Light Company

[Docket Nos. ER02-766-000]

Take notice that on January 14, 2002, Florida Power & Light Company (FPL) filed with the Federal Energy Regulatory Commission (Commission) an unexecuted Interconnection and Operation Agreement between FPL and Progress Energy's DeSoto County Generating Company, LLC (Progress DeSoto) that sets forth the terms and conditions governing the interconnection between Progress DeSoto's generating project and FPL's transmission system. A copy of this filing has been served on Progress DeSoto and the Florida Public Service Commission.

Comment Date: February 4, 2002.

17. Allegheny Energy Global Markets, LLC

[Docket No. ER02-767-000]

Take notice that on January 14, 2002, Allegheny Energy Service Corporation on behalf of Allegheny Energy Global Markets, LLC (AEGM) filed a Notice of Cancellation of its Market-Based Rate Schedule, FERC Electric Tariff, Original Volume No. 1, Original Sheet Nos. 1-5.

AEGM requests an effective date for the cancellation of December 31, 2001.

Comment Date: February 4, 2002.

18. Idaho Power Company and IDACORP Energy, Inc.

[Docket No. ER02-768-000]

Take notice that on January 14, 2002, Idaho Power Company (IPC) and IDACORP Energy, Inc.(IE) filed an amendment to the Agreement for Electricity Supply Services between IPC and IE in this proceeding.

Comment Date: February 4, 2002.

19. Consolidated Edison Company of New York, Inc.

[Docket No. ER02-769-000]

Take notice that on January 14, 2002, Consolidated Edison Company of New York, Inc. (Con Edison) tendered for filing Supplements to its Rate Schedule, Con Edison Rate Schedule FERC No. 129, a facilities agreement with Orange and Rockland Utilities, Inc. (O&R). The supplement provides for an increase in the carrying charges under the facilities agreement.

Con Edison states that a copy of this filing has been served upon O&R.

Comment Date: February 4, 2002.

20. International Transmission Company

[Docket No. ER02-770-000]

Take notice that on January 14, 2002, International Transmission Company (ITC) filed with the Federal Energy Regulatory Commission (the Commission) an executed Service Agreement between ITC and Mirant Wyandotte, LLC (the Agreement).

ITC requests that the Commission accept the Agreement for filing effective as of January 15, 2002.

Comment Date: February 4, 2002.

21. Handsome Lake Energy, LLC

[Docket No. ER02-771-000]

Take notice that on January 14, 2002, Handsome Lake Energy, LLC (Handsome Lake) tendered for filing, under section 205 of the Federal Power Act, a rate schedule for reactive power and voltage control from generation sources service provided to the transmission facilities controlled by the PJM Interconnection LLC (PJM).

Handsome Lake requests an effective date for the proposed rate schedule of January 12, 2002.

Handsome Lake mailed a copy of this filing to PJM.

Comment Date: February 4, 2002.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 02-1728 Filed 1-23-02; 8:45 am]

BILLING CODE 6717-01-P